DEPARTMENT OF THE INTERIOR

Bureau of Land Management

[CACA 51022, LLCAD06000 L51010000 ER0000 LVRWB10B3780]

Notice of Availability of the Record of Decision for the Rice Solar Energy, LLC, Rice Solar Energy Project (RSEP) and California Desert Conservation Area Plan Amendment, California

AGENCY: Bureau of Land Management, Interior.

ACTION: Notice of availability.

SUMMARY: The Bureau of Land Management (BLM) announces the availability of the Record of Decision (ROD)/Approved Amendment to the California Desert Conservation Area (CDCA) Plan, the applicable Resource Management Plan (RMP) for the project site and the surrounding areas, located in the California Desert District. The Secretary of the Interior approved the ROD on December 8, 2011, which constitutes the final decision of the Department.

ADDRESSES: Copies of the ROD/Approved Amendment to the CDCA Plan are available upon request from the Field Manager, Palm Springs-South Coast Field Office, Bureau of Land Management, 1201 Bird Center Drive, Palm Springs, California, 92262, or via the Internet at the following Web site: http://www.blm.gov/ca/st/en/fo/palmsprings.html.

FOR FURTHER INFORMATION CONTACT: Allison Shaffer, BLM Project Manager; telephone (760) 833-7100; through mail at the address above; or email Allison_Shaffer@blm.gov.

SUPPLEMENTARY INFORMATION: Rice Solar Energy, LLC, a subsidiary of SolarReserve, LLC plans to construct a 150 megawatt (MW) solar concentrating thermal project on 1,410 acres of a 2,560 acre parcel of private land. The site is located 40 miles northwest of Blythe, California, in Riverside County, California. The major generation equipment that makes up the concentrating solar thermal electrical generation plant includes: A central receiver tower, sun tracking heliostat field, and an integrated thermal storage system using molten salt as the heat transfer and storage medium.

With these components, a large field of mirrors or heliostats concentrates and focuses the sun's energy onto a central receiver. The project uses thermal energy storage that allows solar energy to be captured throughout the day and retained in a molten salt heat transfer fluid. When electricity is generated, hot liquid salt is routed to heat exchangers to heat water and produce steam. The steam is used to generate electricity in a conventional steam turbine cycle.

Rice Solar Energy submitted a right-of-way (ROW) application to the BLM in association with the private land solar energy project. This ROW application was filed to lease approximately 150 acres of BLM-administered land needed to construct and operate a 161/230 kV electrical transmission line (also called a generator tie-line, or “gen-tie”) and an associated access road. A ROW application was also filed by the Western Area Power Administration (Western) to lease approximately 4 acres of BLM-administered land needed for a new substation that would be owned and operated by Western in support of the RSEP.

Under these ROW grants RSEP would be allowed the right to use, occupy and develop a 161/230kV gen-tie line and associated access road, which would exit the Rice Solar Energy Project, and travel southeast in an undeveloped area of the Sonoran Desert in eastern Riverside County, California where it would then interconnect to Western's Parker-Blythe #2 161-kV transmission line at the substation proposed by Western. The gen-tie line and access road as proposed would traverse 8.27 mile in a 150 foot width right-of-way corridor occupying 150 acres of land administered by the BLM.

The substation as proposed by Western would be 300 feet wide by 400 feet long, causing approximately 4 acres of permanent disturbance on BLM lands. Associated infrastructure in the ROW grant would occupy approximately 154 acres of public land administered by the BLM. This project site is in the California Desert District within the planning boundary of the California Desert Conservation (CDCA) Plan, which is the applicable Resource Management Plan (RMP) for the project site and surrounding areas. The CDCA Plan, while recognizing the potential compatibility of solar generation and transmission on public lands requires that all sites associated with power generation or transmission not already identified in the Plan be considered through the BLM's land use plan amendment process. As a result, prior to approval of the ROW grant to the RSEP, the BLM must amend the CDCA Plan to allow the substation as proposed by Western and a transmission corridor leading from the site onto BLM land. The approved Amendment to the CDCA Plan specifically revises the CDCA Plan to allow for the development of the RSEP gen-tie line and ancillary facilities on land managed by the BLM.

The BLM preferred alternative would result in the construction of a gen-tie line, access road and substation to support the Rice Solar Energy Project, capable of producing 150MW of electricity. This alternative was evaluated in the Final Environmental Impact Statement (EIS). The Notice of Availability of the Final EIS for the RSEP and the proposed CDCA Plan amendment was published in the Federal Register on June 10, 2011 (76 FR 34073). Subsequently, a 30-day protest period for the proposed amendment to the CDCA Plan was initiated (76 FR 47608, Aug. 5, 2011). At the close of the 30-day period on September 6, 2011, one written protest was received and dismissed, and did not result in changing the decision. This protest dismissal is summarized in the Director's Protest Resolution Report attached to the ROD. Along with the protest period, the Governor of California conducted a 60-day consistency review of the proposed CDCA Plan amendment to identify any inconsistencies with State or local plan, policies or programs; no inconsistencies were identified.

Because this decision is approved by the Secretary of the Interior, it is not subject to administrative appeal (43 CFR 4.410(a)(3)).

Authority: 40 CFR 1506.6.

Neil Kornze,
Acting Deputy Director, Bureau of Land Management.

[FR Doc. 2011-32181 Filed 12-14-11; 8:45 am]

BILLING CODE 6450-01-P